DEPARTMENT OF THE INTERIOR

National Park Service

[NPS-WASO-NRNHL-24190; PPWOCRADI0, PCU00RP14.R50000]

National Register of Historic Places; Notification of Pending Nominations and Related Actions

AGENCY: National Park Service, Interior.

ACTION: Notice.

SUMMARY: The National Park Service is soliciting comments on the significance of properties nominated before September 16, 2017, for listing or related actions in the National Register of Historic Places.

DATES: Comments should be submitted by October 26, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before September 16, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ILLINOIS

Cook County

Baptist Retirement Home, 316 Randolph St., Maywood, SG100001765

IOWA

Marion County

Collegiate Neighborhood Historic District, Main to W. 1st, Independence to Union & w. side of W. 1st to Liberty Sts., Pella, SG100001766

NEW YORK

Albany County

Coeymans Landing Historic District, Various Coeymans, SG100001767

Cattaraugus County

Allegany Council House, 8156 Old Rt. 17, Jimerstown, Allegany Indian Territories, SG100001768

Lewis County

First Lewis County Clerk's Office, 6660 NY 26, Martinsburg, SG100001769

Nassau County

Building at 390 Ocean Avenue, Massapequa, SG100001770

OREGON

Deschutes County

Redmond Downtown Historic District, Generally bounded by SW. Cascade & SW. Forest Aves., SW. 5th & SW. 7th Sts., Redmond, SG100001771

Josephine County

Reed-Cobb-Bowser House and Barn, 1700 Merlin Rd., Merlin, SG100001772

Lane County

Foster-Simmons House (Eugene West University Neighborhood MPS), 417 E. 13th Ave., Eugene, MP100001773

Multnomah County

Peacock Lane Historic District (Historic Residential Suburbs in the United States, 1830-1960 MPS), SE. Stark & SE. Belmont Sts., SE. Peacock Ln., Portland, MP100001774

WISCONSIN

Dane County

Tenney Building, 110 E. Main St., Madison, SG100001775

Authority: 60.13 of 36 CFR part 60.

Dated: September 22, 2017.
J. Paul Loether,
Chief, National Register of Historic Places/National Historic Landmarks Program, Keeper, National Register of Historic Places.

[FR Doc. 2017-21800 Filed 10-10-17; 8:45 am]

BILLING CODE 4312-52-P